NUCLEAR REGULATORY COMMISSION

Draft Final Technical Study of Spent Fuel Pool Accident Risk at Decommissioning Nuclear Power Plants

AGENCY: Nuclear Regulatory Commission.

ACTION: Request for public comments.

SUMMARY: The Nuclear Regulatory Commission (NRC) is soliciting public comment on the “Draft Final Technical Study of Spent Fuel Pool Accident Risk at Decommissioning Nuclear Power Plants.”

As the number of power reactors involved in the decommissioning process increases, the ability to address regulatory issues generically has become more important. After a nuclear power plant permanently shuts down and the reactor is defueled, the traditional accident sequences that dominate operating reactor risk are no longer applicable. The predominant source of risk remaining at permanently shutdown plants involves accidents associated with spent fuel stored in the spent fuel pool.

Following a Commission meeting held on March 17, 1999, the NRC staff formed a technical working group to evaluate spent fuel pool accident risk at decommissioning plants. The staff set out to develop a risk-informed technical basis that could be used to develop rulemaking and to establish a predictable method for reviewing future exemption requests and to identify the need for any research in areas of large uncertainty. The staff intends for this approach to meet the NRC outcome goals of maintaining safety, reducing unnecessary regulatory burden, increasing public confidence, and improving efficiency and effectiveness.

The NRC released a preliminary draft version of the technical basis study in June 1999. A public workshop to discuss the report was held in July 1999. Numerous comments and other input were received from the public and the nuclear industry. The NRC has revised the report to address the comments received and to incorporate needed changes based on the results of outside technical reviews.

All comments received will be considered before the final report is published as the basis for initiation of rulemaking activities.

DATES: The comment period expires April 7, 2000. Comments received after this date will be considered if practical to do so, but the staff is able to assure consideration only for comments received on or before this date.

ADDRESSES: Mail written comments to Chief, Rules and Directives Branch, Division of Administrative Services, Office of Administration, U. S. Nuclear Regulatory Commission, Washington, DC 20555-0001. Comments may also be sent electronically by completing the online comment form available on the NRC Internet web page at the address below. Comments may also be hand delivered to Room 6D59, Two White Flint North, 11555 Rockville Pike, Rockville, Maryland, between 7:30 a.m. and 4:15 p.m. on Federal workdays.

The report is available at the NRC Public Document Room, 2120 L Street NW., Washington, DC. and through the NRC Agencywide Documents Access and Management System (ADAMS). The report is also available via the Internet on the NRC web page at <http://www.nrc.gov/NRC/REACTOR/DECOMMISSIONING/SF/index.html>. Requests for single copies may be made to Richard Dudley, U. S. Nuclear Regulatory Commission, Mail Stop O-11D19, Washington, DC 20555-0001 or by telephone at 301-415-1116 or email to rfd@nrc.gov.

FOR FURTHER INFORMATION CONTACT: George Hubbard, U.S. NRC, Office of Nuclear Reactor Regulation, Mail Stop O-11A11, Washington, DC, 20555-0001; telephone 301-415-2870; email: gth@nrc.gov.

Dated at Rockville, Maryland, this 15th day of February, 2000.
For the Nuclear Regulatory Commission.
Stuart A. Richards,
Director, Project Directorate IV & Decommissioning, Division of Licensing Project Management, Office of Nuclear Reactor Regulation.

[FR Doc. 00-4079 Filed 2-18-00; 8:45 am]

BILLING CODE 7590-01-P